DEPARTMENT OF JUSTICE

Bureau of Alcohol, Tobacco, Firearms, and Explosives

27 CFR Parts 447, 478, 479, 555, and 646

[Docket No. ATF 2013R-9F; AG Order No. 3439-2014]

Technical Amendments to Regulations

AGENCY: Bureau of Alcohol, Tobacco, Firearms, and Explosives (ATF), Department of Justice.

ACTION: Final rule.

SUMMARY: This final rule makes technical amendments and corrects typographical errors in ATF regulations in the Code of Federal Regulations (CFR). Many of the technical changes are being made to reflect changes in nomenclature resulting from the transfer of ATF to the Department of Justice from the Department of the Treasury pursuant to the Homeland Security Act of 2002. The changes are designed to provide clarity and enhance uniformity throughout these regulations.

DATES: This rule is effective August 11, 2014.

FOR FURTHER INFORMATION CONTACT: Shermaine Kenner, Office of Regulatory Affairs, Enforcement Programs and Services, Bureau of Alcohol, Tobacco, Firearms, and Explosives, U.S. Department of Justice, 99 New York Avenue NE., Washington, DC 20226; telephone: (202) 648-7070 (this is not a toll-free number).

SUPPLEMENTARY INFORMATION:

Background

The Bureau of Alcohol, Tobacco, Firearms, and Explosives (ATF) administers regulations published in title 27, chapter II, Code of Federal Regulations (CFR). ATF identified several technical amendments that are needed to provide clarity and uniformity to 27 CFR regulations.

Rather than make substantive changes to the regulations, these amendments generally focus on improving the clarity and accuracy of title 27, chapter II. Many of the technical changes reflect changes in nomenclature resulting from the transfer of ATF to the Department of Justice from the Department of the Treasury pursuant to the Homeland Security Act of 2002. In addition, some changes are being made to reflect changes in the assignment of responsibility within ATF.

The following sections are being amended to reflect the current name of the Bureau of Alcohol, Tobacco, Firearms, and Explosives in the Department of Justice: §§ 447.11, 447.32, 478.11, 478.76, 478.78, 479.11, 479.22, 555.78, 555.104, 646.143.

The following sections are being amended to reflect current contact information for ATF's Distribution Center: §§ 447.35, 447.58, 478.21, 478.103, 479.21, 555.21.

The following sections defining “Customs Officer” are being amended to remove all references to the “Customs Service” and “Secretary of the Treasury” and replace with “Any officer of U.S. Customs and Border Protection, any commissioned, warrant, or petty officer of the Coast Guard, or any agent or other person authorized by law to perform the duties of a customs officer”, to reflect the current name of the Customs Service and that it is no longer under the Department of the Treasury: §§ 478.11, 479.11, 555.11.

The following sections are being amended to remove extra spaces: §§ 478.56, 478.76.

The following sections are being amended to reflect the correct form numbers: §§ 478.72, 478.73, 478.74, 478.126.

Section 478.76 is being amended to replace “Assistant Chief Counsel” with the correct title, “Chief Counsel”.

The following sections are being amended to replace “regional director (compliance)” with the current title, “Director, Industry Operations”: §§ 479.11, 479.26, 555.11, 555.22, 555.25, 555.49, 555.63, 555.71, 555.72, 555.73, 555.74, 555.75, 555.76, 555.78, 555.79, 555.80, 555.122(a)(4), 555.123(a)(4), 555.124(a)(4), 555.125(b)(1)(iv), 555.142, 555.201. With the elimination of the position of regional director (compliance), the duties enumerated in these sections are being assigned to the Director, Industry Operations.

The following sections are being amended to replace “regional director (compliance)” with the correct title, “Chief, National Firearms Act Branch”: §§ 479.37, 479.38, 479.46, 479.47, 479.50, 479.172. With the elimination of the position of regional director (compliance), the duties enumerated in these sections are being assigned to the Chief, National Firearms Act Branch.

Section 479.34 is being amended to remove “(12-93 edition)”, a reference to an obsolete edition of a form.

Section 479.37 is being amended to remove “Center” as the word does not make sense in the context of the sentence.

Section 479.84 is being amended to replace “regional director (compliance)” with the correct title, “Special Agent in Charge”. With the elimination of the position of regional director (compliance), the duties enumerated in this section are being assigned to the Special Agent in Charge.

The following sections are being amended to replace “Chief, Firearms and Explosives Licensing Center” with the current title, “Chief, Federal Explosives Licensing Center”: §§ 555.45, 555.46, 555.49, 555.50, 555.54, 555.56, 555.57, 555.59, 555.60, 555.61, 555.104, 555.128.

The following sections are being amended to replace “regional director (compliance)” with the correct title, “Chief, Explosives Industry Programs Branch”: §§ 555.122(d), 555.123(e), 555.124(e), 555.125(b)(7). With the elimination of the position of regional director (compliance), the duties enumerated in these subsections are being assigned to the Chief, Explosives Industry Programs Branch.

Section 555.126 is being amended to delete duplicative words “of the” in the term “identity of the of the holder”.

Section 555.141 is being amended to replace “Public Safety Branch” with the current title “Explosives Industry Programs Branch”.

How This Document Complies With the Federal Administrative Requirements for Rulemaking

A. Executive Order 12866 and Executive Order 13563

This rule has been drafted and reviewed in accordance with Executive Order 12866, “Regulatory Planning and Review,” section 1(b), The Principles of Regulation, and Executive Order 13563, “Improving Regulation and Regulatory Review,” section 1, General Principles of Regulation. This rule is limited to agency organization, management, or personnel matters as described by Executive Order 12866, section 3(d)(3) and, therefore, is not a “regulation” or “rule” as defined by that Executive Order.

B. Executive Order 13132

This final rule will not have substantial direct effects on the States, on the relationship between the Federal Government and the States, or on the distribution of power and responsibilities among the various levels of government. Therefore, in accordance with section 6 of Executive Order 13132, “Federalism,” the Attorney General has determined that this regulation does not have sufficient federalism implications to warrant the preparation of a federalism summary impact statement.

C. Executive Order 12988

This regulation meets the applicable standards set forth in sections 3(a) and 3(b)(2) of Executive Order 12988, “Civil Justice Reform.”

D. Administrative Procedure Act

The revisions to the regulations in this final rule are purely matters of agency organization, procedure, and practice that will not affect individual rights and obligations. As such, this rule is exempt from the usual requirements of prior notice and comment and a 30-day delay in the effective date. See 5 U.S.C. 553(a)(2), (b)(3)(A), and (d)(3). Moreover, the Department finds good cause for exempting the rule from those requirements. Because this final rule makes technical corrections to improve the clarity of the regulations, the Department finds it unnecessary to publish this rule for public notice and comment. Similarly, because delaying the effective date of this rule would serve no purpose, the Department also finds good cause to make this rule effective upon publication.

E. Regulatory Flexibility Act

The Attorney General, in accordance with the Regulatory Flexibility Act, 5 U.S.C. 605(b), has reviewed this rule and, by approving it, certifies that it will not have a significant economic impact on a substantial number of small entities because it pertains to personnel and administrative matters affecting the Department. Further, a Regulatory Flexibility Analysis is not required for this final rule because the Department was not required to publish a general notice of proposed rulemaking for this matter.

F. Small Business Regulatory Enforcement Fairness Act of 1996

This rule is not a major rule as defined by section 251 of the Small Business Regulatory Enforcement Fairness Act of 1996, 5 U.S.C. 804. This rule will not result in an annual effect on the economy of $100 million or more; a major increase in costs or prices; or significant adverse effects on competition, employment, investment, productivity, innovation, or on the ability of United States-based enterprises to compete with foreign-based enterprises in domestic and export markets.

G. Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995, 2 U.S.C. 1531-1535.

H. Paperwork Reduction Act of 1995

This final rule does not impose any new reporting or recordkeeping requirements under the Paperwork Reduction Act, 44 U.S.C. 3501-3521.

I. Congressional Review Act

This action pertains to agency organization, procedure, or practice, and does not substantially affect the rights or obligations of non-agency parties and, accordingly, is not a “rule” as that term is used by the Congressional Review Act (Subtitle E of the Small Business Regulatory Enforcement Fairness Act of 1996). See 5 U.S.C. 804(3). Therefore, the reporting requirement of 5 U.S.C. 801 does not apply.

List of Subjects

27 CFR Part 447

Administrative practice and procedure, Arms and munitions, Authority delegations, Chemicals, Customs duties and inspection, Imports, Penalties, Reporting and recordkeeping requirements, Scientific equipment, Seizures and forfeitures.

27 CFR Part 478

Administrative practice and procedure, Arms and munitions, Authority delegations, Customs duties and inspection, Domestic violence, Exports, Imports, Law enforcement officers, Military personnel, Nonimmigrant aliens, Penalties, Reporting and recordkeeping requirements, Research, Seizures and forfeitures, and Transportation.

27 CFR Part 479

Administrative practice and procedure, Arms and munitions, Authority delegations, Customs duties and inspection, Excise taxes, Exports, Imports, Military personnel, Penalties, Reporting and recordkeeping requirements, Research, Seizures and forfeitures, and Transportation.

27 CFR Part 555

Administrative practice and procedure, Authority delegations, Customs duties and inspection, Explosives, Hazardous substances, Imports, Penalties, Reporting and recordkeeping requirements, Safety, Security measures, Seizures and forfeitures, Transportation, and Warehouses.

27 CFR Part 646

Administrative practice and procedure, Cigars and cigarettes, Excise taxes, Packagaing and containers, Penalties, Reporting and recordkeeping requirements, Surety bonds, and Tobacco.

Authority and Issuance

Accordingly, for the reasons discussed in the preamble, 27 CFR parts 447, 478, 479, 555, and 646 are amended as follows:

PART 447—IMPORTATION OF ARMS, AMMUNITION AND IMPLEMENTS OF WAR

1. The authority citation for 27 CFR part 447 continues to read as follows:

Authority: 22 U.S.C. 2778; E.O. 13637, 78 FR 16129 (Mar. 8, 2013).

§ 447.11 [Amended]

2. Amend § 447.11 as follows:

a. Remove the words “Tobacco and Firearms (ATF)” in the definition of “Appropriate ATF Officer” and add in their place the words “Tobacco, Firearms, and Explosives (ATF)”;

b. Remove the words “Tobacco and Firearms, the Department of the Treasury” in the definition of “Bureau” and add in their place the words “Tobacco, Firearms, and Explosives, the Department of Justice”; and

c. Remove the words “Tobacco and Firearms, the Department of the Treasury” in the definition of “Director” and adding in their place the words “Tobacco, Firearms, and Explosives, the Department of Justice”.

§ 447.32 [Amended]

3. Amend § 447.32 by removing the words “Tobacco and Firearms” in paragraph (c) and adding in their place the words “Tobacco, Firearms, and Explosives”.

§ 447.35 [Amended]

4. Amend § 447.35 by removing the words “Center, P.O. Box 5950, Springfield, Virginia 22150-5950, or by accessing the ATF Web site http://www.atf.gov/” in paragraph (b) and adding in their place the words “Center (http://www.atf.gov) or by calling (202) 648-6420”.

§ 447.58 [Amended]

5. Amend § 447.58 by removing the words “mailing a request to the ATF Distribution Center, PO Box 5950, Springfield, VA 22150-5950, or by accessing the ATF Web site http://www.atf.gov/” in the third sentence and adding in their place the words “submitting a request to the ATF Distribution Center (http://www.atf.gov) or by calling (202) 648-6420”.

PART 478—COMMERCE IN FIREARMS AND AMMUNITION

6. The authority citation for 27 CFR part 478 continues to read as follows:

Authority: 5 U.S.C. 552(a); 18 U.S.C. 847, 921-931; 44 U.S.C. 3504(h).

7. Amend § 478.11 as follows:

a. Remove the words “Tobacco and Firearms (ATF)” in the definition of “ATF Officer” and add in their place the words “Tobacco, Firearms, and Explosives (ATF)”;

b. Revise the definition of “Customs Officer” to read as set forth below;

c. Remove the words “Tobacco and Firearms, the Department of the Treasury” in the definition of “Director” and add in their place the words “Tobacco, Firearms, and Explosives, the Department of Justice”; and

d. Remove the words “Tobacco and Firearms” in the definition of “Division” and add in their place the words “Tobacco, Firearms, and Explosives”.

§ 478.11 Meaning of terms.

* * * * *

Customs officer. Any officer of U.S. Customs and Border Protection, any commissioned, warrant, or petty officer of the Coast Guard, or any agent or other person authorized by law to perform the duties of a customs officer.

* * * * *

§ 478.21 [Amended]

8. Amend § 478.21 by removing the words “mailed to the ATF Distribution Center, 7664 K Fullerton Road, Springfield, Virginia, 22150” in paragraph (b) and adding in their place the words “submitted to the ATF Distribution Center (http://www.atf.gov) or made by calling (202) 648-6420”.

§ 478.56 [Amended]

9. Amend § 478.56 by removing the extra space after the word “Center” in paragraph (b).

§ 478.72 [Amended]

10. Amend § 478.72 by removing “Form 4501” and adding in its place “Form 5300.13”.

§ 478.73 [Amended]

11. Amend § 478.73 by removing “Form 4501” in paragraph (b) and adding in its place “Form 5300.13”.

§ 478.74 [Amended]

12. Amend § 478.74 by removing “Form 4501” and adding in its place “Form 5300.13”.

§ 478.76 [Amended]

13. Amend § 478.76 as follows:

a. Remove the words “Tobacco and Firearms” the first time they appear and add in their place the words “Tobacco, Firearms, and Explosives”;

b. Remove the words “the Assistant Chief Counsel or Division Counsel” and add in their place the words “Chief Counsel”; and

c. Remove the additional space after the word “Director” in the last sentence.

§ 478.78 [Amended]

14. Amend § 478.78 by removing the words “Tobacco and Firearms” and adding in their place the words “Tobacco, Firearms, and Explosives”.

§ 478.103 [Amended]

15. Amend § 478.103 by removing the words “mailed to the ATF Distribution Center, P.O. Box 5950, Springfield, Virginia, 22150-5950” in the note to paragraph (e) and adding in their place the words “submitted to the ATF Distribution Center (http://www.atf.gov) or made by calling (202) 648-6420”.

§ 478.126 [Amended]

16. Amend § 478.126 by removing “Form 4483” in paragraph (a) and adding in its place “Form 5300.5”.

PART 479—MACHINE GUNS, DESTRUCTIVE DEVICES, AND CERTAIN OTHER FIREARMS

17. The authority citation for 27 CFR part 479 continues to read as follows:

Authority: 26 U.S.C. 7805.

18. Amend § 479.11 as follows:

a. Remove the words “Tobacco and Firearms (ATF)” in the definition of “ATF Officer” and add in their place the words “Tobacco, Firearms, and Explosives (ATF)”;

b. Revise the definition of “Customs Officer” to read as set forth below;

c. Remove the words “Tobacco, and Firearms, the Department of the Treasury” in the definition of “Director” and add in their place “Tobacco, Firearms, and Explosives, the Department of Justice”;

d. Remove the acronym “ATF” in the definition of Regional director (compliance);

e. Remove the caption “Regional director (compliance)” in the definition of “Regional director (compliance)” and add in its place “Director, Industry Operations”; and

f. Remove the newly designated definition of “Director, Industry Operations” from after the definition of “Pistol” and add it after the definition of “Director”.

§ 479.11 Meaning of terms.

* * * * *

Customs officer. Any officer of U.S. Customs and Border Protection, any commissioned, warrant, or petty officer of the Coast Guard, or any agent or other person authorized by law to perform the duties of a customs officer.

* * * * *

§ 479.21 [Amended]

19. Amend § 479.21 by removing the words “mailed to the ATF Distribution Center, 7664 K Fullerton Road, Springfield, Virginia, 22150” in paragraph (b) and adding in their place the words “submitted to the ATF Distribution Center (http://www.atf.gov) or made by calling (202) 648-6420”.

§ 479.22 [Amended]

20. Amend § 479.22 by removing the words “Tobacco and Firearms” and adding in their place the words “Tobacco, Firearms, and Explosives”.

§ 479.26 [Amended]

21. Amend § 479.26 as follows:

a. Remove the words “regional director (compliance)” in paragraph (a)(3) and add in their place the words “Director, Industry Operations”; and

b. Remove the words “regional director (compliance)” in paragraph (b) and add in their place the words “Director, Industry Operations”.

§ 479.34 [Amended]

22. Amend § 479.34 by removing “(12-93 edition)” in the last sentence of paragraph (e).

§ 479.37 [Amended]

23. Amend § 479.37 as follows:

a. Revise all references to “regional director (compliance)” to read “Chief, National Firearms Act Branch”; and

b. Remove the word “Center” in the first sentence.

§ 479.38 [Amended]

24. Amend § 479.38 by removing the words “regional director (compliance)” in the last sentence and adding in their place the words “Chief, National Firearms Act Branch”.

§ 479.46 [Amended]

25. Amend § 479.46 by removing the words “regional director (compliance)” in the second sentence and adding in their place the words “Chief, National Firearms Act Branch”.

§ 479.47 [Amended]

26. Amend § 479.47 by removing the words “regional director (compliance)” in the second sentence and adding in their place the words “Chief, National Firearms Act Branch”.

§ 479.50 [Amended]

27. Amend § 479.50 by removing the words “regional director (compliance)” in the first sentence and adding in their place the words “Chief, National Firearms Act Branch”.

§ 479.84 [Amended]

28. Amend § 479.84 by removing the words “Regional director (compliance)” in the third sentence and adding in their place the words “Special Agent in Charge”.

§ 479.172 [Amended]

29. Amend § 479.172 by removing the words “regional director (compliance)” in the fourth sentence and adding in their place the words “Chief, National Firearms Act Branch”.

PART 555—COMMERCE IN EXPLOSIVES

30. The authority citation for 27 CFR part 555 continues to read as follows:

Authority: 18 U.S.C. 847.

31. Amend § 555.11 as follows:

a. Revise the definition of “Customs Officer” to read as set forth below;

b. Remove the caption “Regional director (compliance)” in the definition of “Regional director (compliance)” and add in its place “Director, Industry Operations”; and

c. Remove the newly designated definition of “Director, Industry Operations” from after the definition of “Region” and add it after the definition of “Director”.

§ 555.11 Meaning of terms.

* * * * *

Customs officer. Any officer of the Customs Service or any commissioned, warrant, or petty officer of the Coast Guard, or any agent or other person authorized to perform the duties of an officer of the Customs Service.

* * * * *

§ 555.21 [Amended]

32. Amend § 555.21 by removing the words “mailed to the ATF Distribution Center, 7664 K Fullerton Road, Springfield, Virginia, 22150” in paragraph (b) and adding in their place the words “submitted to the ATF Distribution Center (http://www.atf.gov) or made by calling (202) 648-6420”.

§ 555.22 [Amended]

33. Amend § 555.22 by removing the words “regional director (compliance)” in the undesignated paragraphs following paragraphs (a)(3) and (b)(3) and adding in their place the words “Director, Industry Operations”.

§ 555.25 [Amended]

34. Amend § 555.25 by revising all references to “regional director (compliance)” to read “Director, Industry Operations”.

§ 555.45 [Amended]

35. Amend § 555.45 by removing the words “Chief, Firearms and Explosives” in paragraph (c)(3) and adding in their place the words “Chief, Federal Explosives”.

§ 555.46 [Amended]

36. Amend § 555.46 by removing the words “Chief, Firearms and Explosives” in paragraph (a), and adding in their place the words “Chief, Federal Explosives”.

§ 555.49 [Amended]

37. Amend § 555.49 as follows:

a. Remove the words “Chief, Firearms and Explosives ” in paragraphs (b)(1) introductory text, (b)(2) introductory text, and (b)(3), and add in their place the words “Chief, Federal Explosives”; and

b. Remove the words “regional director (compliance)” in paragraph (b)(3) and add in their place the words “Director, Industry Operations”.

§ 555.50 [Amended]

38. Amend § 555.50 by revising all references to “Chief, Firearms and Explosives” in paragraphs (a) and (b) to read “Chief, Federal Explosives”.

§ 555.54 [Amended]

39. Amend § 555.54 by revising all references to “Chief, Firearms and Explosives” in paragraphs (a) and (b) to read “Chief, Federal Explosives”.

§ 555.56 [Amended]

40. Amend § 555.56 by removing the words “Chief, Firearms and Explosives” and adding in their place the words “Chief, Federal Explosives”.

§ 555.57 [Amended]

41. Amend § 555.57 by revising all references to “Chief, Firearms and Explosives” in paragraphs (a), (b), and (c) to read “Chief, Federal Explosives”.

§ 555.59 [Amended]

42. Amend § 555.59 by removing the words “Chief, Firearms and Explosives” in paragraph (b) and adding in their place the words “Chief, Federal Explosives”.

§ 555.60 [Amended]

43. Amend § 555.60 by removing the words “Chief, Firearms and Explosives” and adding in their place the words “Chief, Federal Explosives”.

§ 555.61 [Amended]

44. Amend § 555.61 by removing the words “Chief, Firearms and Explosives” and adding in their place the words “Chief, Federal Explosives”.

§ 555.63 [Amended]

45. Amend § 555.63 by revising all references to “regional director (compliance)” in paragraphs (a)(4), (c), and (d) to read “Director, Industry Operations”.

§ 555.71 [Amended]

46. Amend § 555.71 by revising all references to “regional director (compliance)” to read “Director, Industry Operations”.

§ 555.72 [Amended]

47. Amend § 555.72 by removing the words “regional director (compliance)” in the first sentence and adding in their place the words “Director, Industry Operations”.

§ 555.73 [Amended]

48. Amend § 555.73 by revising all references to “regional director (compliance)” to read “Director, Industry Operations”.

§ 555.74 [Amended]

49. Amend § 555.74 by revising all references to “regional director (compliance)” to read “Director, Industry Operations”.

§ 555.75 [Amended]

50. Amend § 555.75 by revising all references to “regional director (compliance)” to read “Director, Industry Operations”.

51. Amend § 555.76 as follows:

a. Revise the section heading to read as set forth below; and

b. Revise all references to “regional director (compliance)” in paragraphs (a), (b), and (c) to read “Director, Industry Operations”.

§ 555.76 Action by Director, Industry Operations.

* * * * *

§ 555.78 [Amended]

52. Amend § 555.78 as follows:

a. Remove the words “Tobacco and Firearms” and add in their place the words “Tobacco, Firearms, and Explosives”; and

b. Revise all references to “regional director (compliance)” to read “Director, Industry Operations”.

§ 555.79 [Amended]

53. Amend § 555.79 by revising all references to “regional director (compliance)” to read “Director, Industry Operations”.

§ 555.80 [Amended]

54. Amend § 555.80 by revising all references to “regional director (compliance)” to read “Director, Industry Operations”.

§ 555.104 [Amended]

55. Amend § 555.104 as follows:

a. Revise all references to “Chief, Firearms and Explosives” in paragraph (c) to read “Chief, Federal Explosives”; and

b. Remove the words “Tobacco and Firearms” in the last sentence of paragraph (c) and add in their place the words “Tobacco, Firearms, and Explosives”.

§ 555.122 [Amended]

56. Amend § 555.122 as follows:

a. Revise all references to “regional director (compliance)” in paragraph (a)(4) to read “Director, Industry Operations”; and

b. Revise all references to “regional director (compliance)” in paragraph (d) to read “Chief, Explosives Industry Programs Branch”.

§ 555.123 [Amended]

57. Amend § 555.123 as follows:

a. Revise all references to “regional director (compliance)” in paragraph (a)(4) to read “Director, Industry Operations”; and

b. Revise all references to “regional director (compliance)” in paragraph (e) to read “Chief, Explosives Industry Programs Branch”.

§ 555.124 [Amended]

58. Amend § 555.124 as follows:

a. Revise all references to “regional director (compliance)” in paragraph (a)(4) to read “Director, Industry Operations”; and

b. Revise all references to “regional director (compliance)” in paragraph (e) to read “Chief, Explosives Industry Programs Branch”.

§ 555.125 [Amended]

59. Amend § 555.125 as follows:

a. Revise all references to “regional director (compliance)” in paragraph (b)(1)(iv) to read “Director, Industry Operations”; and

b. Revise all references to “regional director (compliance)” in paragraph (b)(7) to read “Chief, Explosives Industry Programs Branch”.

§ 555.126 [Amended]

60. Amend § 555.126 by removing the words “identity of the of the holder” in the second sentence in paragraph (b)(2) and adding in their place the words “identity of the holder”.

§ 555.128 [Amended]

61. Amend § 555.128 by removing the words “Chief, Firearms and Explosives” and adding in their place the words “Chief, Federal Explosives”.

§ 555.141 [Amended]

62. Amend § 555.141 by removing the words “Public Safety Branch” in the last sentence in paragraph (a)(1) and adding in their place the words “Explosives Industry Program Branch”.

§ 555.142 [Amended]

63. Amend § 555.142 by removing the words “regional director (compliance)” in paragraph (e)(4) and adding in their place the words “Director, Industry Operations”.

§ 555.201 [Amended]

64. Amend § 555.201 by removing the words “regional director (compliance)” in the third sentence of paragraph (b) and adding in their place the words “Director, Industry Operations”.

PART 646—CONTRABAND CIGARETTES

65. The authority citation for part 646 continues to read as follows:

Authority: 18 U.S.C. 2341-2346, unless otherwise noted.

§ 646.143 [Amended]

66. Amend § 646.143 by removing the words “Tobacco and Firearms (ATF)” in the definition of “Appropriate ATF officer” and adding in their place the words “Tobacco, Firearms, and Explosives (ATF)”.

Dated: August 4, 2014.
Eric H. Holder, Jr.,
Attorney General.

[FR Doc. 2014-18842 Filed 8-8-14; 8:45 am]

BILLING CODE 4410-FY-P